DEPARTMENT OF HEALTH AND HUMAN SERVICES

Substance Abuse and Mental Health Services Administration

Center for Substance Abuse Treatment; Notice of Meeting

Pursuant to Public Law 92-463, notice is hereby given that the 41st meeting of the Substance Abuse and Mental Health Services Administration (SAMHSA) Center for Substance Abuse Treatment (CSAT) National Advisory Council will be held in January 2005.

A portion of the meeting will be open and include discussion of the Center's policy issues, current administrative, legislative, and program developments. The meeting will also include the review, discussion, and evaluation of individual grant applications. Therefore a portion of the meeting will be closed to the public as determined by the SAMHSA Administrator, in accordance with Title 5 U.S.C. 552b(c) and (6) and 5 U.S.C. App. 2, § 10(d).

SAMHSA/CSAT welcomes the attendance of the public at its advisory council meetings, and will make every effort to accommodate persons with physical disabilities or special needs. If you require special accommodations due to a disability, please inform the contact person by January 19.

Substantive program information, a summary of the meeting, transcript of the open session, and a roster of Council members may be obtained by accessing the SAMHSA Advisory Committee Web site (http://www.samhsa.gov), or by communicating with the contact whose name and telephone number are listed below.

Committee Name: SAMHSA's Center for Substance Abuse Treatment National Advisory Council.

Meeting Dates: January 26-9 a.m.-4 p.m. January 27-9 a.m.-1 p.m.

Place: 1 Choke Cherry Road, Sugar Loaf Room, Rockville, Maryland 20857.

Type: Open: January 26-9 a.m.-4 p.m.; Closed: January 27-9 a.m.-10:15 a.m.; Open: January 27-10:30 a.m.-1 p.m.

Contact: Cynthia Graham, Executive Secretary, SAMHSA/CSAT National Advisory Council, 1 Choke Cherry Road, Room 5-1036, Rockville, MD 20857, telephone: (240) 276-1692, FAX: (240) 276-1690, e-mail: Cynthia.graham@samhsa.hhs.gov.

Dated: December 29, 2004.
Toian Vaughn, Committee Management Officer, Substance Abuse and Mental Health Services Administration.

[FR Doc. 05-188 Filed 1-4-05; 8:45 am]

BILLING CODE 4162-20-P